Title 3—

The President

Proclamation 8119 of March 29, 2007

Cancer Control Month, 2007

By the President of the United States of America

A Proclamation

Cancer Control Month is an opportunity to educate all Americans about cancer, to raise awareness about treatments, and to renew our commitment to fighting this deadly disease.

Through developments in medical science, we continue to make advances in the prevention and treatment of cancer. Yet millions of our citizens continue to live with some form of this disease, and it remains the second leading cause of death in the United States. Individuals can reduce their risk of developing cancer by practicing healthy eating habits, exercising, limiting sun exposure, avoiding tobacco, knowing their family history, and getting regular screenings from the doctor.

My Administration remains committed to the fight against cancer. In 2005, the National Cancer Institute and the National Human Genome Research Institute launched the Cancer Genome Atlas, a revolutionary research project to help scientists understand the genetic sources of cancer. The discoveries from this project have the potential to bring about rapid advances in cancer research. And last year the National Institutes of Health invested more than $5 billion in cancer research.

We are making progress. Cancer related deaths have declined for 2 consecutive years. Thirty years ago, there were only 3 million cancer survivors, and today there are more than 10 million.

During Cancer Control Month, we remember those who have lost their lives to cancer. And we commend the determination, courage, and strength of cancer survivors. Our Nation is grateful for medical professionals, researchers, family members, and friends who support cancer patients. Their dedication to these individuals is a reflection of the true spirit of America. Our country will continue the fight against cancer until it is won.

In 1938, the Congress of the United States passed a joint resolution (52 Stat. 148; 36 U.S.C. 103) as amended, requesting the President to issue an annual proclamation declaring April as “Cancer Control Month.”

NOW, THEREFORE, I, GEORGE W. BUSH, President of the United States of America, by virtue of the authority vested in me by the Constitution and laws of the United States, do hereby proclaim April 2007 as Cancer Control Month. I encourage citizens, government agencies, private businesses, nonprofit organizations, and other interested groups to join in activities that will increase awareness about the steps Americans can take to prevent and control cancer.

IN WITNESS WHEREOF, I have hereunto set my hand this twenty-ninth day of March, in the year of our Lord two thousand seven, and of the Independence of the United States of America the two hundred and thirty-first.

[FR Doc. 07-1668

Filed 4-2-07; 9:23 am]

Billing code 3195-01-P